NATIONAL SCIENCE FOUNDATION

Agency Information Collection activities: Comment Request; Notice.

TITLE: Generic Survey Clearance of the Science Resources Studies Survey Improvement Projects and Quick Response Studies.

SUMMARY: Under the Paperwork Reduction Act of 1995, Pub. L. 104-13 (44 U.S.C. 3506(c)(2)(A)), and as part of its continuing effort to reduce paperwork and respondent burden, the National Science Foundation invites the general public and other Federal agencies to take this opportunity to comment on this new information collection.

COMMENT DUE DATE: Written comments should be received by August 28, 2000 to be assured of consideration. Comments received after that date will be considered to the extent practicable.

ADDRESSES: Written comments regarding the information collection and requests for copies of the proposed information collection request should be addressed to Suzanne Plimpton, Reports Clearance Officer, National Science Foundation, 4201 Wilson Blvd., Rm. 295, Arlington, VA 22230, or by e-mail to splimpto@nsf.gov.

FOR FURTHER INFORMATION CONTACT: Suzanne Plimpton, the NSF Reports Clearance Officer, phone (703) 306-1125, or send e-mail to splimpto@nsf.gov. You may also obtain a copy of the data collection plans and instruments from Ms. Suzanne Plimpton, NSF Reports Clearance Officer, National Science Foundation, 4201 Wilson Blvd., Suite 295, Arlington, VA 22230, phone (703) 306-1125. Individuals who use a telecommunications device for the deaf (TDD) may call the Federal Information Relay Service (FIRS) at 1-800-877-8339 between 8 a.m. and 8 p.m., Eastern time, Monday through Friday.

SUPPLEMENTARY INFORMATION:

Abstract

Generic Survey Clearance of the Science Resources Studies Survey Improvement Projects and Quick Response Studies. The National Science Foundation's (NSF) Division of Science Resources Studies (SRS) needs to collect timely data on constant changes in the science and technology sector and to provide the information to policy makers in Congress and throughout the Government. SRS will sponsor quick response surveys and workshops on science and technology subjects, perform cognitive testing to improve survey methodology and questionnaires, and pretest questions for future large-scale surveys.

Expected Respondents

The respondents will be from industry, academia, nonprofit organizations, members of the public, and Federal agencies. Data and information collection will be by mail, Internet, World Wide Web, telephone, visits, and/or workshops. As the table below shows, as many as 355 institutions will be contacted. No institution will be contacted more than twice in one year. Members of the public may be contacted for a survey of public attitudes toward science.

The information from the respondents is needed to provide policy makers with updates of the economic, financial, employment, and education situation in the science and technology sector of industry, academia, and nonprofit organizations. The information will also help NSF improve its current data collection instruments and processes.

To minimize burden on small entities and to make sure that a high proportion of the science and technology universe is captured, most respondent selection will be designed with probability proportional to size. It is possible that during the 3 years of the survey clearance, NSF will study an issue that focuses on small entities, such as start-up high-technology companies. In this case, every effort will be made to use technology to limit the burden on respondents from small entities.

Information being collected is not considered to be sensitive. In general, assurance of data confidentiality will not be provided to respondents to the Generic Survey Clearance of the Science Resources Studies Survey Improvement Projects and Quick Response Studies. Instead, respondents have the option of requesting that any and all data they submit be kept confidential.

Use of the Information

The purpose of these studies is to collect information on the science and technology sector to respond to questions from policy makers and to improve the current NSF science and technology surveys. NSF will publish a separate report on the findings and also include them in other NSF compilations such as National Patterns of R&D Resources and Science and Engineering Indicators. In most cases the data and information will be made available on the World Wide Web. The results of surveys and studies will help policy makers in decisions on research and development funding, regulations, and reporting guidelines.

Burden on the Public

NSF estimates that a total reporting and recordkeeping burden of 5,860 hours will result from the collection of information. The calculation is:

Survey Name | Number of Respondents | Hours
Cognitive testing-Survey of Scientific & Engineering Research Facilities | 50 | 100
Cognitive testing-Survey of R&D Funding & Performance by Nonprofit Organizations | 30 | 60
Quick Response Survey for understanding change in R&D in the industrial sector | 50 | 300
Workshops on surveys & economic issues | 25 | 600
Additional surveys not specified | 200 | 4,800
Total | 355 | 5,860

Request for Comments

We invite comments specifically on:

(a) Whether the proposed collection of information is necessary for the proper performance of the functions of the Agency, including whether the information will have practical utility;

(b) The accuracy of the Agency's estimate of the burden of the proposed collection of information;

(c) Ways to enhance the quality, utility, and clarity of the information to be collected; and

(d) Ways to minimize the burden of collection of information on respondents, including through the use of appropriate automated, electronic, mechanical, or other technological collection techniques or other forms of information technology, e.g., permitting electronic submission of responses.

Comments submitted in response to this notice will be summarized and/or included in the request for OMB approval of this information collection; they also will become a matter of public record.

Dated: June 26, 2000.
Suzanne Plimpton,
Reports Clearance Officer.

[FR Doc. 00-16512 Filed 6-28-00; 8:45 am]

BILLING CODE 7555-01-M